OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between November 1, 2010, and November 30, 2010. These notices are published monthly in the Federal Register at http://www.gpoaccess.gov/fr/. A consolidated listing of all authorities as of June 30 is also published each year. The following Schedules are not codified in the Code of Federal Regulations. These are agency-specific exceptions.

Schedule A

No Schedule A authorities to report during November 2010.

Schedule B

No Schedule B authorities to report during November 2010.

Schedule C

The following Schedule C appointments were approved during November 2010.

Department of State

DSGS70121 Director, Art In Embassies Program. Effective November 19, 2010.

Department of the Treasury

DYGS00537 Public Affairs Specialist. Effective November 26, 2010.

Department of Defense

DDGS17304 Special Assistant to the Assistant Secretary of Defense for Reserve Affairs. Effective November 8, 2010.

DDGS17308 Defense Fellow for White House Liaison. Effective November 16, 2010.

DDGS17309 Associate Director for Communication Plans and Integration. Effective November 18, 2010.

Department of Justice

DJGS00627 Counsel for Civil Division. Effective November 23, 2010.

Department of Homeland Security

DMGS00688 Senior Advisor for Legislative Affairs. Effective November 3, 2010.

DMGS00167 Confidential Assistant for Federal Emergency Management Agency. Effective November 16, 2010.

Department of Agriculture

DAGS00241 Confidential Assistant to the Administrator, Farm Service Agency. Effective November 3, 2010.

DAGS20032 Special Assistant to the Deputy Secretary. Effective November 3, 2010.

DAGS20036 Senior Advisor to the Administrator. Effective November 3, 2010.

DAGS00186 White House Liaison to the Secretary. Effective November 4, 2010.

Department of Labor

DLGS00039 Speechwriter for Communications and Public Affairs. Effective November 4, 2010.

DLGS00285 Scheduler for Scheduling and Advance. Effective November 23, 2010.

Department of Heath and Human Services

DHGS60510 Confidential Assistant to the Deputy Assistant Secretrary for Early Childhood Development. Effective November 23, 2010.

Department of Education

DBGS00202 Deputy Chief of Staff. Effective November 29, 2010.

DBGS00283 Chief of Staff for Civil Rights. Effective November 29, 2010.

Environmental Protection Agency

EPGS11004 Assistant Press Secretary for Public Affairs. Effective November 23, 2010.

Department of Energy

DEGS00833 Senior Advisor (Electricity Delivery and Energy Reliability). Effective November 23, 2010.

Small Business Administration

SBGS00901 Senior Advisor to the Administrator. Effective November 10, 2010.

General Services Administration

GSGS01410 Special Assistant for Congressional and Intergovernmental Affairs. Effective November 18, 2010.

GSGS01450 Special Assistant to the Regional Administrator. Effective November 29, 2010.

GSGS01451 Special Assistant to the Regional Administrator. Effective November 29, 2010.

Export-Import Bank

EBGS10981 Deputy to the President and Chairman. Effective November 19, 2010.

Federal Mine Safety and Health Review Commission

FRGS90502 Attorney Advisor (General) to a Member. Effective November 10, 2010.

Housing and Urban Development

DUGS00431 Regional Administrator to the Deputy Director, Office of Field Policy and Management. Effective November 5, 2010.

DUGS00224 Regional Administrator to the Deputy Director, Office of Field Policy and Management. Effective November 10, 2010.

DUGS00035 Senior Policy Advisor for the Office of Strategic Planning and Management. Effective November 18, 2010.

DUGS00032 Intergovernmental and Public Engagement Liaison for Intergovernmental Relations. Effective November 23, 2010.

Department of Transportation

DTGS60295 Special Assistant to the Under Secretary of Transportation for Policy. Effective November 23, 2010.

DTGS60477 Associate Director for Scheduling. Effective November 23, 2010.

DTGS60478 Associate Director for Advance. Effective November 23, 2010.

Authority: 5 U.S.C. 3301 and 3302; E.O. 10577, 3 CFR 1954-1958 Comp., p. 218.

John Berry,
Director, U.S. Office of Personnel Management.

[FR Doc. 2011-918 Filed 1-14-11; 8:45 am]

BILLING CODE 6325-39-P